DEPARTMENT OF COMMERCE

International Trade Administration

Extension of Time Limit for Final Results of Expedited Five-Year Reviews

AGENCY: Import Administration, International Trade Administration, Department of Commerce.

ACTION: Notice of extension of time limit for final results of expedited five-year (“Sunset”) reviews.

SUMMARY: The Department of Commerce (“the Department”) is extending the time limit for the final results of five expedited sunset reviews initiated on December 1, 1999 (64 FR 67247), covering various antidumping duty orders. Based on adequate responses from domestic interested parties and inadequate responses from respondent interested parties, the Department is conducting expedited sunset reviews to determine whether revocation of the antidumping duty orders would be likely to lead to continuation or recurrence of dumping. As a result of these extensions, the Department intends to issue its final results not later than June 28, 2000.

EFFECTIVE DATE: April 6, 2000.

FOR FURTHER INFORMATION CONTACT: Mark D. Young, Import Administration, International Trade Administration, U.S. Department of Commerce, 14th Street and Constitution Avenue, NW, Washington, DC 20230; telephone: (202) 482-6397.

Extension of Final Results

In accordance with section 751(c)(5)(C)(v) of the Tariff Act of 1930, as amended (“the Act”), the Department may treat a sunset review as extraordinarily complicated if it is a review of a transition order (i.e., an order in effect on January 1, 1995). The reviews at issue concern transition orders within the meaning of section 751(c)(6)(C)(ii) of the Act. The Department has determined that the sunset reviews of the following antidumping duty orders are extraordinarily complicated:

A-588-831 Grain-Oriented Electrical Steel from Japan

A-475-811 Grain-Oriented Electrical Steel from Italy

A-570-831 Fresh Garlic from the People's Republic of China

A-570-826 Paper Clips from the People's Republic of China

A-570-827 Cased Pencils from the People's Republic of China

Therefore, the Department is extending the time limit for completion of the final results of these reviews until not later than June 28, 2000, in accordance with section 751(c)(5)(B) of the Act.

Dated: March 30, 2000.
Robert S. LaRussa,
Assistant Secretary for Import Administration.

[FR Doc. 00-8561 Filed 4-5-00; 8:45 am]

BILLING CODE 3510-DS-P